DEPARTMENT OF THE INTERIOR

Bureau of Indian Affairs

Indian Gaming

AGENCY: Bureau of Indian Affairs, Interior.

ACTION: Notice of amendment to approved Tribal-State Compact.

SUMMARY: Under Section 11 of the Indian Gaming Regulatory Act of 1988 (IGRA), Public Law 100-497, 25 U.S.C. 2710, the Secretary of the Interior shall publish, in the Federal Register, notice of the approved Tribal-State compacts for the purpose of engaging in Class III gaming activities on Indian lands. The Assistant Secretary—Indian Affairs, Department of the Interior, through his delegated authority, has approved the Amendment to the Tribal-State Compact for Class III Gaming between the Puyallup Tribe of Indians and the State of Washington, which was executed on May 30, 2002.

DATES: This action is effective July 12, 2002.

FOR FURTHER INFORMATION CONTACT: George T. Skibine, Director, Office of Indian, Gaming Management, Bureau of Indian Affairs, Washington, DC 20240, (202) 219-4066.

Dated: June 19, 2002.
Neal A. McCaleb,
Assistant Secretary—Indian Affairs.

[FR Doc. 02-17642 Filed 7-11-02; 11:14 am]

BILLING CODE 4310-4N-M